DEPARTMENT OF JUSTICE

Antitrust Division

Notice Pursuant to the National Cooperative Research and Production Act of 1993—Naval Surface Technology & Innovation Consortium

Notice is hereby given that, on October 3, 2025, pursuant to section 6(a) of the National Cooperative Research and Production Act of 1993, 15 U.S.C. 4301 et seq. (“the Act”), Naval Surface Technology & Innovation Consortium (“NSTIC”) has filed written notifications simultaneously with the Attorney General and the Federal Trade Commission disclosing changes in its membership. The notifications were filed for the purpose of extending the Act's provisions limiting the recovery of antitrust plaintiffs to actual damages under specified circumstances.

Specifically, 22nd Century Technologies, Inc., McLean, VA; Additive Innovations LLC, Pittsburgh, PA; Adsys Controls Inc, Irvine, CA; Advanced Thin Films, Inc., Longmont, CO; Analytical Engineering, Inc., Columbus, IN; Auriga Space, Inc, Garden Grove, CA; Banduri LLC, Fredericksburg, VA; Brainstorm Technologies LLC, Slidell, LA; Bridgehill Corporation, Paramus, NJ; Cahaba Federal Solutions, LLC, Huntsville, AL; Canopy Aerospace, Inc., Littleton, CO; Centurum Information Technology, Inc., Marlton, NJ; Chance Technologies LLC, Lafayette, LA; Chickasaw Aerospace, LLC, Norman, OK; CPI Electron Device Business, Inc., Beverly, MA; Danbury Mission Technologies LLC, Danbury, CT; Electronics Service Inc., Great Mills, MD; Element 119 LLC, Plainville, CT; Elementum 3D, Inc., Erie, CO; Eotech, LLC, Plymouth, MI; Espey Mfg and Electronics Corp, Saratoga Springs, NY; Ethos Technologies LLC, Clifton, VA; FiveNine Optics Inc, Boulder, CO; Foxhole Technology LLC, Herndon, VA; Global Business Solutions, LLC, Pensacola, FL; Great Lakes Crystal Technologies, Inc, East Lansing, MI; Gxm Consulting LLC, Midlothian, VA; Ikaros Industries, Inc., El Segundo, CA; Innovision LLC, Dayton, OH; Intelligenesis LLC, Columbia, MD; Kiski Precision Industries, LLC, Leechburg, PA; Kms Solutions, LLC, Alexandria, VA; L3 Technologies, Inc., Orlando, FL; Lean Scaled Architects LLC, Saint Petersburg, FL; Learntowin Inc, Redwood City, CA; Left Hand Design Corporation, Longmont, CO; Lockheed Martin Coherent Technologies, Inc., Louisville, CO; Merge Plot LLC, Huntingdon Valley, PA; Nu-Tek Precision Optical Corp., Aberdeen, MD; Optimax Systems, Inc., Ontario, NY; Preferred Program Solutions INC, Madison, AL; Radiation Monitoring Devices, Inc., Watertown, MA; Redhelm Labs LLC, College Park, MD; Rune Technologies Inc., Alexandria, VA; Sabel Systems Technology Solutions, LLC, Beavercreek, OH; Sentinel Infrared Imaging, Inc., Vero Beach, FL; Shift5, Inc., Arlington, VA; Supernova Industries Corp., Austin, TX; Torchlight Solutions LLC, Arlington, MA; Total Machine LLC, King George, VA; Turnkey Federal LLC, Tampa, FL; Universal Solutions International, Incorporated, Newport News, VA; University of North Carolina at Charlotte, Charlotte, NC; and Zeus Research and Technology Inc, Huntsville, AL, have been added as parties to this venture.

Also, Accenture Federal Services LLC, Mclean, VA; Blacksky Geospatial Solutions, LLC, Herndon, VA; Cape Henry Associates, Inc., Virginia Beach, VA; NanoElectromagnetics LLC, Columbia, MO; Princeton Infrared Technologies Inc, Monmouth Junction, NJ; Quantitative Scientific Solutions LLC, Arlington, VA; Rwc, LLC, Annapolis, MD; Smart Embedded Computing Inc, Tempe, AZ; and Systems and Proposal Engineering Company, Manassas, VA, have withdrawn as parties to this venture.

No other changes have been made in either the membership or planned activity of the group research project. Membership in this group research project remains open, and NSTIC intends to file additional written notifications disclosing all changes in membership.

On October 8, 2019, NSTIC filed its original notification pursuant to section 6(a) of the Act. The Department of Justice published a notice in the Federal Register pursuant to section 6(b) of the Act on November 12, 2019 (84 FR 61071).

The last notification was filed with the Department on July 9, 2025. A notice was published in the Federal Register pursuant to section 6(b) of the Act on August 15, 2025 (90 FR 39425).

Suzanne Morris,
Deputy Director Civil Enforcement Operations, Antitrust Division.

[FR Doc. 2026-03539 Filed 2-20-26; 8:45 am]

BILLING CODE P